DEPARTMENT OF AGRICULTURE

Natural Resources Conservation Service

[Docket No. NRCS-2024-0005]

Notice of Intent To Prepare an Environmental Impact Statement for the GreenThumb Gardens Water Supply Project, New York, NY for Bronx, Kings, New York, Queens, and Richmond Counties

AGENCY: Natural Resources Conservation Service, USDA.

ACTION: Notice of intent (NOI) to prepare an environmental impact statement (EIS).

SUMMARY: The Natural Resources Conservation Service (NRCS) New York State Office announces its intent to prepare an environmental impact statement for the GreenThumb Gardens Water Supply Project watershed plan, under the jurisdiction of New York City (NYC) Parks and Recreation Department GreenThumb Network, located within the Five Borough Watershed in New York City, New York. The proposed watershed plan will examine alternative solutions to address insufficient agricultural water supply to support the food production needs of the identified community gardens. The GreenThumb Community Gardens includes 254 food producing community gardens within the jurisdiction of the NYC Parks and Recreation Department. NRCS is requesting comments to identify significant issues, potential alternatives, information, and analyses relevant to the proposed action from all interested individuals, Federal and State agencies, and Tribes.

DATES: We will consider comments that we receive by May 24, 2024. We will consider comments received after close of the comment period to the extent possible.

ADDRESSES: We invite you to submit comments in response to this notice. You may submit your comments through one of the methods below:

• Federal eRulemaking Portal: Go to http://www.regulations.gov and search for docket ID NRCS-2024-0005. Follow the online instructions for submitting comments; or

• Mail or Hand Delivery: Dennis DeWeese, Assistant State Conservationist USDA, NRCS, New York State Office, 441 S. Salina Street, Syracuse New York 13202. In your comments, specify the docket ID NRCS-2024-00005.

All comments received will be posted without change and made publicly available on www.regulations.gov.

FOR FURTHER INFORMATION CONTACT: Dennis DeWeese; telephone: (315) 477-6527; email: dennis.deweese@usda.gov. Individuals who require alternative means for communication should contact the U.S. Department of Agriculture (USDA) Target Center at (202) 720-2600 (voice and text telephone (TTY)) or dial 711 for Telecommunications Relay service (both voice and text telephone users can initiate this call from any telephone).

SUPPLEMENTARY INFORMATION:

Purpose and Need

The primary purpose for the watershed plan is to supply dependable and accessible water to the GreenThumb Community Gardens that produce food.

Watershed planning is authorized under the Watershed Protection and Flood Prevention Act of 1954 (Pub. L. 83-566), as amended, and the Flood Control Act of 1944 (Pub. L. 78-534). The sponsoring local organization is the NYC Parks and Recreation Department GreenThumb Network, which supports the creation and maintenance of volunteer led community gardens within the NYC Parks and Recreation Department jurisdiction.

The GreenThumb Gardens Water Supply Project is essential for the establishment of secure and reliable on-site agricultural water supply to address deficiencies in the existing water delivery systems. Improving on-site water infrastructure within community gardens would strengthen the local food system, improve efficiency, contribute to the conservation and enhancement of natural resources and lower barriers to water access. Additionally, on-site agricultural water supply for community gardens would improve public health and safety through the enrichment of food quality and quantity, increased community engagement opportunities, and the reduction of fire hydrant related safety and efficiency concerns. This action would implement water conservation activities on existing agricultural lands and would address solutions to insufficient water supply and quality for the community gardens. The primary beneficiaries of the GreenThumb Gardens Water Supply Project are urban food producing community gardens under the NYC Parks and Recreation Department GreenThumb jurisdiction that do not have accessible and safe permanent access to a dependable water supply.

Estimated Federal funds required for the construction of the proposed action may exceed $25 million and the proposed action will, therefore, require congressional approval per the 2018 Agriculture Appropriations Act amended funding threshold. In accordance with the regulation in 7 CFR 650.7(a)(2), an EIS is required for projects requiring congressional approval.

Preliminary Proposed Action and Alternatives

The EIS objective is to formulate and evaluate alternatives for the agricultural water management in the NYC Parks and Recreation Department GreenThumb community gardens Project area. The EIS is expected to evaluate two alternatives: one action alternative and one no action alternative. The alternatives that may be considered for detailed analysis include:

• Alternative 1—No Action Alternative: Taking no action would consist of activities conducted if no Federal action or funding were provided. If the No Action Alternative is selected on-site water supply would continue at its current pace. No Federal action or funding would be associated with the No Action Alternative.

• Alternative 2—Proposed Action—Reduced Pressure Zone (RPZ) System: The proposed action would include the installation of on-site water supply using a RPZ system at eligible food producing GreenThumb community gardens throughout NYC.

Summary of Expected Impacts

The EIS will be prepared as required by section 102(2)(C) of the National Environmental Policy Act of 1969 (NEPA); the Council on Environmental Quality Regulations (40 CFR parts 1500-1508); and NRCS regulations that implement NEPA in 7 CFR part 650.

Resource concerns for scoping were identified and categorized as relevant or not relevant to the proposed action. The NYC Parks and Recreation Department GreenThumb Network and NRCS are evaluating the GreenThumb Gardens Water Supply Project's existing conditions along with relevant resource concerns for each proposed solution. Environmental resources in the GreenThumb Gardens Water Supply Project area consist of both natural and man-made resources.

Resource concerns include the following: insufficient agricultural water supply, plant productivity and health, and human economic considerations of labor and risk. A special environmental concern is environmental justice.

An NRCS evaluation of this federally assisted action indicates the proposed alternatives may have local effects on the environment. Potential negative effects include short-term disruption in pedestrian and traffic movement at individual community gardens during GreenThumb Gardens Water Supply Project installation. Long-term beneficial effects associated with the establishment of on-site water supply at food producing community gardens include: increased produce quality and quantity of food; increased water efficiency; and improved safety and equity. Broader community-oriented benefits range from a reduction in the urban heat island effect to improved community connectedness and social capital.

Anticipated Permits and Authorizations

The following permit is anticipated to be required:

• NYC Department of Environmental Protection. The GreenThumb Gardens Water Supply Project would require a site connection permit for all connections made to the city's water mains.

Schedule of Decision-Making Process

A Draft EIS (DEIS) will be prepared and circulated for review and comment by agencies, Tribes, consulting parties, and the public for 45 days as required by the regulations in 40 CFR 1503.1, 1502.20, 1506.11, and 1502.17, and 7 CFR 650.13. The DEIS is anticipated to be published in the Federal Register, approximately 9 months after publication of this NOI. A Final EIS is anticipated to be published within 6 months of completion of the public comment period for the DEIS.

NRCS will decide whether to implement one of the action alternatives as evaluated in the EIS. A Record of Decision will be completed after the required 30-day waiting period and will be publicly available. The responsible Federal official and decision maker for NRCS is the New York NRCS State Conservationist.

Public Scoping Process

The date, time, and location for a public scoping meeting will be announced on the GreenThumb Gardens Water Supply Project website. Comments received, including the names and addresses of those who comment, will be part of the public record. Scoping meeting presentation materials will be available for review and comment for 30 days after the meeting.

Federal, State, Tribal, local agencies and representatives, and the public are invited to take part in the watershed plan scoping period. The NYC Parks and Recreation Department GreenThumb Network and NRCS will organize a public scoping meeting to provide an opportunity to review and evaluate the GreenThumb Gardens Water Supply Project alternatives, express concern or support, and gain further information regarding the GreenThumb Gardens Water Supply Project. To determine the most viable alternatives for the EIS, the NYC Parks and Recreation Department GreenThumb Network will use input obtained during public scoping discussions to focus on relevant resource concerns and issues and eliminate those that are not relevant from further detailed study.

NRCS will coordinate the scoping process to correspond with Section 106 of the National Historic Preservation Act (NHPA) (54 U.S.C. 306108) as allowed in 36 CFR 800.2(d)(3) and 800.8.

Identification of Potential Alternatives, Information, and Analyses

NRCS invites agencies, Tribes, consulting parties, and individuals that have special expertise, legal jurisdiction, or interest in the GreenThumb Gardens Water Supply Project to provide written comments concerning the scope of the analysis and identification of potential alternatives, information, and analyses relevant to the Proposed Action.

The information about historic and cultural resources within the area potentially affected by the proposed GreenThumb Gardens Water Supply Project will assist NRCS in identifying and evaluating impacts to such resources in the context of both NEPA and NHPA.

NRCS will consult with Native American tribes on a government-to-government basis in accordance with the regulations in 36 CFR 800.2 and 800.3, Executive Order 13175, and other policies. Tribal concerns, including impacts on Indian trust assets and potential impacts to cultural resources and historic properties, will be given due consideration.

Authorities

This document is published as specified by the NEPA regulations regarding publication of an NOI to issue an EIS (40 CFR 1501.9(d)). Watershed planning is authorized under the Watershed Protection and Flood Prevention Act of 1954, as amended and the Flood Control Act of 1944.

Federal Assistance Programs

The title and number of the Federal Assistance Program as found in the Assistance Listing ¹ to which this document applies is 10.904, Watershed Protection and Flood Prevention.

¹ See https://sam.gov/content/assistance-listings.

Executive Order 12372

Executive Order 12372, “Intergovernmental Review of Federal Programs,” requires consultation with State and local officials that would be directly affected by proposed Federal financial assistance. The objectives of the Executive order are to foster an intergovernmental partnership and a strengthened federalism, by relying on State and local processes for State and local government coordination and review of proposed Federal financial assistance and direct Federal development. The GreenThumb Gardens Water Supply Project is subject to the provisions of Executive Order 12372, which requires intergovernmental consultation with State and local officials.

USDA Non-Discrimination Policy

In accordance with Federal civil rights law and USDA civil rights regulations and policies, USDA, its agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and telephone) or dial 711 for Telecommunications Relay Service (both voice and text telephone users can initiate this call from any phone). Additionally, program information may be made available in languages other than English.

To file a program discrimination complaint, complete the USDA Program Discrimination Complaint Form, AD-3027, found online at: https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) Fax: (202 690-7442; or (3) email: program.intake@usda.gov.

USDA is an equal opportunity provider, employer, and lender.

Blake Glover,
New York State Conservationist, Natural Resources Conservation Service.

[FR Doc. 2024-08725 Filed 4-23-24; 8:45 am]

BILLING CODE 3410-16-P